DEPARTMENT OF TRANSPORTATION

Federal Aviation Administration

14 CFR Part 39

[Docket No. FAA-2006-24691; Directorate Identifier 2006-NM-051-AD; Amendment 39-14901; AD 2007-02-14]

RIN 2120-AA64

Airworthiness Directives; Boeing Model 737-600, -700, -700C, -800, and -900 Series Airplanes

AGENCY: Federal Aviation Administration (FAA), Department of Transportation (DOT).

ACTION: Final rule.

SUMMARY: The FAA is adopting a new airworthiness directive (AD) for certain Boeing Model 737-600, -700, -700C, -800, and -900 series airplanes. This AD requires testing the electrical resistance of the bond between the bulkhead fitting for the fuel feed line and the front spar of the left and right wings, inspecting an adjacent bonding jumper to make sure it is installed correctly, and performing corrective and other specified actions as applicable. This AD results from fuel system reviews conducted by the manufacturer. We are issuing this AD to prevent arcing or sparking in the fuel tank in the event of a lightning strike, which could result in an uncontrolled fire or explosion.

DATES: This AD becomes effective March 1, 2007.

The Director of the Federal Register approved the incorporation by reference of a certain publication listed in the AD as of March 1, 2007.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for the service information identified in this AD.

FOR FURTHER INFORMATION CONTACT: Doug Pegors, Aerospace Engineer, Propulsion Branch, ANM-140S, FAA, Seattle Aircraft Certification Office, 1601 Lind Avenue, SW., Renton, Washington 98057-3356; telephone (425) 917-6504; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 737-600, -700, -700C, -800, and -900 series airplanes. That NPRM was published in the Federal Register on May 5, 2006 (71 FR 26423). That NPRM proposed to require testing the electrical resistance of the bond between the bulkhead fitting for the fuel feed line and the front spar of the left and right wings, inspecting an adjacent bonding jumper to make sure it is installed correctly, and performing corrective and other specified actions as applicable.

Comments

We provided the public the opportunity to participate in the development of this AD. We have considered the comments received.

Request To Cite Revised Service Information

AirTran Airways (AirTran) supports the NPRM. AirTran asks that if the NPRM is changed to refer to Revision 1 of Boeing Special Attention Service Bulletin 737-28-1225 (which was being drafted when the comment was submitted), credit be given for accomplishing the inspection and modification in accordance with the original issue of the service bulletin. The NPRM referred to Boeing Special Attention Service Bulletin 737-28-1225, dated January 12, 2006, as the source of service information for accomplishing the specified actions.

Boeing asks that paragraphs (c) and (f) of the NPRM be changed to reference Boeing Special Attention Service Bulletin 737-28-1225, Revision 1, dated October 30, 2006. Boeing notes that Revision 1 corrects the illustrations that show the routing of the bonding jumpers, as well as the illustration views that show the locations of the electrical bond resistance equipment probes. (At the time this comment was submitted, Revision 1 was not yet issued.) Boeing adds that its request is to eliminate the need for an alternative method of compliance (AMOC) request. Boeing also states that credit should be given for accomplishing the actions in accordance with the original issue.

We agree with these requests. We have reviewed Revision 1 of the referenced service bulletin, which specifies that no more work is necessary on airplanes changed as shown in the original issue of the service bulletin; the changes in Revision 1 are mainly editorial. Therefore, we have changed paragraph (f) of the AD to add Boeing Special Attention Service Bulletin 737-28-1225, Revision 1, dated October 30, 2006, as the source of service information for accomplishing the requirements in that paragraph, and we have added a new paragraph (g) to the AD to give credit for the actions done before the effective date of this AD in accordance with Boeing Special Attention Service Bulletin 737-28-1225, dated January 12, 2006. We have also changed the applicability in paragraph (c) of the AD to reference Revision 1.

Request To Correct Certain Grammar

Boeing also asks that we correct the grammar specified in paragraph (f) of the NPRM by deleting the language “by doing all of the actions specified.” We agree and have changed the specified language.

Conclusion

We have carefully reviewed the available data, including the comments received, and determined that air safety and the public interest require adopting the AD with the changes described previously. We have determined that these changes will neither increase the economic burden on any operator nor increase the scope of the AD.

Costs of Compliance

There are about 1,541 airplanes of the affected design in the worldwide fleet. This AD affects about 591 airplanes of U.S. registry. The required actions take about 4 work hours per airplane, at an average labor rate of $80 per work hour. Based on these figures, the estimated cost of the AD for U.S. operators is $189,120, or $320 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-02-14 Boeing: Amendment 39-14901. Docket No. FAA-2006-24691; Directorate Identifier 2006-NM-051-AD.

Effective Date

(a) This AD becomes effective March 1, 2007.

Affected ADs

(b) None.

Applicability

(c) This AD applies to Boeing Model 737-600, -700, -700C, -800, and -900 series airplanes, certificated in any category; as identified in Boeing Special Attention Service Bulletin 737-28-1225, Revision 1, dated October 30, 2006.

Unsafe Condition

(d) This AD results from fuel system reviews conducted by the manufacturer. We are issuing this AD to prevent arcing or sparking in the fuel tank in the event of a lightning strike, which could result in an uncontrolled fire or explosion.

Compliance

(e) You are responsible for having the actions required by this AD performed within the compliance times specified, unless the actions have already been done.

Test, Inspection, and Corrective and Other Specified Actions

(f) Within 60 months after the effective date of this AD, test the electrical resistance of the bond between the bulkhead fitting for the fuel feed line and the wing front spar on the left and right wings, do a general visual inspection of adjacent bonding jumpers to make sure they are installed correctly, and do all applicable corrective and other specified actions. Do all the actions in accordance with the Accomplishment Instructions of Boeing Special Attention Service Bulletin 737-28-1225, Revision 1, dated October 30, 2006. All applicable corrective actions and other specified actions must be done before further flight after the electrical resistance test.

Credit for Actions Accomplished Previously

(g) Actions done before the effective date of this AD in accordance with Boeing Special Attention Service Bulletin 737-28-1225, dated January 12, 2006; are considered acceptable for compliance with the actions required by paragraph (f) of this AD.

Alternative Methods of Compliance (AMOCs)

(h)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(i) You must use Boeing Special Attention Service Bulletin 737-28-1225, Revision 1, dated October 30, 2006, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on January 11, 2007.
Kevin M. Mullin,
Acting Manager, Transport Airplane Directorate, Aircraft Certification Service.

[FR Doc. E7-898 Filed 1-24-07; 8:45 am]

BILLING CODE 4910-13-P